U.S DEPARTMENT OF JUSTICE

National Institute of Corrections

Solicitation for a Cooperative Agreement—Management of Technical Assistance for Selected Sites in NIC's “Evidence-Based Decision Making in Local Criminal Justice Systems” Project

AGENCY: National Institute of Corrections, U.S. Department of Justice.

ACTION: Solicitation for a Cooperative Agreement.

SUMMARY: The National Institute of Corrections (NIC) Community Services Division is soliciting proposals from organizations, groups, or individuals to enter into a cooperative agreement with NIC for up to twelve months beginning in September 2011. Work under this cooperative agreement is part of larger NIC project, “Evidence-Based Decision Making (EBDM) in Local Criminal Justice Systems.” Work under this cooperative agreement will be coordinated with recipients of other awards providing services under Phase III of this project.

Specifically, under this cooperative agreement, the recipient will, (1) provide technical assistance to four Phase III “Tier II” sites that have already been identified, and (2) provide ad hoc technical assistance to other non-EBDM sites to be determined together with the NIC staff.

DATES: Application must be received by 4 p.m. (EDT) on Wednesday, August 24, 2011. Selection of the successful applicant and notification of review results to all applicants will be made by September 15, 2011.

ADDRESSES: Mailed applications must be sent to: Director, National Institute of Corrections, 320 First Street, NW., Room 5002, Washington, DC 20534. Applicants are encouraged to use Federal Express, UPS, or similar service to ensure delivery by the due date.

Hand delivered applications should be brought to 500 First Street, NW., Washington, DC 20534. At the front desk, dial 7-3106, extension 0 for pickup.

Faxed applications will not be accepted. Electronic applications can be submitted via http://www.grants.gov.

FOR FURTHER INFORMATION CONTACT: A copy of this announcement can be downloaded from the NIC Web site at http://www.nicic.gov/cooperativeagreements. All technical or programmatic questions concerning this announcement should be directed to Lori Eville, Correctional Program Specialist, National Institute of Corrections, at leville@bop.gov. All questions and answers will be posted on the NIC Web site.

SUPPLEMENTARY INFORMATION: Overview: The overall goal of the EBDM Initiative is to establish and test articulated linkages (information tools and protocols) between local criminal justice decisions and the application of human and organizational change principles (evidence-based practices) to achieve measurable reduction of pretrial misconduct and post-conviction risk or re-offending. The unique focus of the initiative is the locally developed strategies of criminal justice officials that guide practice within existing sentencing statutes and rules. The initiative intends to: (1) improve the quality of information that leads to making individual case decisions in local systems; and (2) engage these systems as policy making bodies to collectively improve the effectiveness and capacity of the decision process related to pretrial release/sentencing options. Local officials include judges, prosecutors, public defenders, police, human service providers, county executives, and jail, probation and pretrial services agencies' administrators.

Local criminal justice decisions are defined broadly to include dispositions regarding to arrest, cite and release or to custody; pretrial release or detention and setting of bail and pretrial release conditions; pretrial diversion; charging and plea bargaining; sentencing of adjudicated offenders regarding use of community and custody options; and responses to violations of conditions of pretrial release and community sentences.

Background: In June 2008, the National Institute of Corrections (NIC) launched a multiple phase initiative and awarded a cooperative agreement to address “Evidence-Based Decision Making in Local Criminal Justice Systems.” The goal of Phase I of the initiative was to build a system wide framework (arrest through final disposition and discharge) that will result in more collaborative, evidence-based decisionmaking and practices in local criminal justice systems. This effort is grounded in two decades of research on the factors that contribute to criminal reoffending and the methods the justice system can employ to interrupt the cycle of re-offense. The initiative seeks to equip criminal justice policymakers in local communities with the information, processes, and tools that will result in measurable reductions of pretrial misconduct and post-conviction reoffending.

The principle product of Phase I of this initiative was the Evidence-Based Decision Making Framework in Local Criminal Justice Systems. The Framework identifies the key structural elements of a system informed by evidence-based practice. It defines a vision of safer communities. It puts forward the belief that risk and harm reduction are fundamental goals of the justice system, and that these can be achieved without sacrificing offender accountability or other important justice system outcomes.

The Framework both acknowledged the importance of the key premises and values underlying our criminal justice system and provides a set of principles to guide evidence-based decisionmaking within that context. The principles themselves are evidence-based. The Framework also highlights some of the most groundbreaking research that demonstrates that pretrial misconduct and offender recidivism can be reduced. It identifies the key stakeholders who must be actively engaged in a collaborative partnership if an evidence-based system of justice is to be achieved. It outlines some of the most difficult challenges agencies face as they seek to deliberately and systematically implement such an approach in their local communities. A copy of the Evidence-Based Decision Making Framework document can be downloaded online at http://www.cepp.com/ebdm.

In August 2010, NIC launched Phase II (Planning and Engagement Stage) of the Evidence-Based Decision Making in Local Criminal Justice Systems Initiative by selecting seven jurisdictions to serve as EBDM “Seed Sites.” Those sites are: Mesa County, Colorado; Grant County, Indiana; Ramsey County, Minnesota; Yamhill County, Oregon; City of Charlottesville/County of Albemarle, Virginia; Eau Claire County, Wisconsin; Milwaukee County, Wisconsin.

The cooperative agreement awardees of Phase II provided intensive technical assistance to each of the 7 seed sites for a period of 10 months. The overarching purpose of the technical assistance was to: (1) Develop a shared philosophy and vision for the local criminal justice system; (2) Determine the capacity to collect and analyze date, including the quality of the date, to support ongoing analysis of the effectiveness of current and future policies, practices, and services designed to achieve specific risk and harm reduction outcomes; and (3) Change in knowledge, skills, and abilities regarding research-based risk reduction strategies.

Each site was provided technical assistance that was specific to the initiative and that was individualized to their system's needs. Monthly site visits from an assigned Technical Assistance Site Coordinator lead the jurisdictions through the attainment of specific activities and goals. The Roadmap to Phase II outlines the major objectives that the technical assistance providers guided the seeds sites to achieve. The technical assistance is intended to lead to the following outcomes: Build a genuine, collaborative policy team; Build individual agencies that are collaborative and in a state of readiness for change; Understand current practice within each agency/across the system; Understand and have the capacity to implement evidence-based practices; Establish performance measurements/outcomes/system scorecard; Develop system logic model; Engage/gain support of the community; Develop Strategic Action Plan.

Phase II is designed to be completed by September 2011. Each jurisdiction submitted an application for acceptance into Phase III of the initiative. Within their applications are a detailed strategic action plan and their system's logic model. The action plan and logic model will be the foundation of implementation activities of the Phase III technical assistance. Numerous factors regarding the sites performance were evaluated and reviewed by a panel to make the recommendations of which jurisdictions are best positioned to implement their action plans to reach their harm reduction goals.

Although there will only be three jurisdictions selected to move to Phase III, Tier I of the EBDM initiative, receiving the most intensive technical assistance, NIC is interested in continuing to provide technical assistance and training to assist the remaining four Tier II jurisdictions toward the implementation of their action plan and system logic model.

Scope of Work: There are two (2) project tasks and deliverables required under this this cooperative agreement:

(1) Technical Assistance will be provided to four Tier II EBDM seed sites: Grant County, IN; Yamhill County, OR; Charlottesville, VA; and Ramsey County, MN. As Tier II sites, their technical assistance is expected to be limited in comparison to the Tier I sites. The technical assistance will be guided by the “Roadmap to Phase II”, each site's strategic action plan and logic model, and other specialized assistance required to reach the jurisdiction's identified outcomes.

(2) Subject to the availability of funds, work with NIC project manager to provide technical assistance and guidance to non-EBDM sites that submit requests for assistance in implementing the EBDM framework within their criminal justice system.

Application Requirements: Applications should be concisely written, typed double-spaced and reference the project by the “NIC Opportunity Number” and Title in this announcement. The package must include: A cover letter that identifies the audit agency responsible for the applicant's financial accounts as well as the audit period or fiscal year that the applicant operates under (e.g., July 1 through June 30); a program narrative in response to the statement of work and a budget narrative explaining projected costs. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://www.nicic.gov/Downloads/general/certif-frm.pdf.)

Applications may be submitted in hard copy, or electronically via http://www.grants.gov. If submitted in hard copy, there needs to be an original and three copies of the full proposal (program and budget narratives, application forms and assurances). The original should have the applicant's signature in blue ink.

Authority: Public Law 93-415.

Funds Available: Up to 165,000 is available for this project, subject to available funding, but preference will be given to applicants who provide the most cost efficient solutions in accomplishing the scope of work. Determination will be made based on best value to the government, not necessarily the lowest bid. Funds may be used only for the activities that are directly related to the project.

This project will be a collaborative venture with the NIC Community Services Division.

Eligibility of Applicants: An eligible applicant is any public or private agency, educational institution, organization, individual or team with expertise in the described areas.

Required Expertise: Successful applicants must be able to demonstrate that they have the organizational capacity to carry out the deliverables of this project, including extensive experience in correctional and criminal justice policy and practice, and a strong background in criminal justice system-wide change with experience in the implementation of evidence-based practices in the criminal justice system to reduce pretrial misconduct and offender risk of re-offending.

Applicants should also have demonstrated the ability to package a criminal justice strategy and advance it to a national audience.

Review Considerations: Applications received under this announcement will be subject to the NIC Review Process. The criteria for the evaluation of each application will be as follows:

Program Narrative: (50%)

Are all of the project tasks adequately discussed, and is there a clear statement of how each will be accomplished, including the staffing, resources, and strategies to be employed? Are there any innovative approaches, techniques, or design aspects proposed that will enhance the project?

Organizational Capabilities: (25%)

Do the skills, knowledge, and expertise of the applicant(s) and the proposed project staff demonstrate a high level of competency to carry out the tasks? Does the applicant have the necessary experience and organizational capacity to carry out the goals of the project?

Program Management/Administration: (25%)

Does the applicant identify reasonable objectives, milestones, and measures to track progress? If there are consultants and/or partnerships proposed, is there a clear structure to ensure effective utilization and coordination? Is the proposed budget realistic, does it provide sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.ccr.gov. A CCR Handbook and worksheet can also be reviewed at the Web site.

Number of Awards: One.

NIC Opportunity Number: 11CC07. This number should appear as a reference line in the cover letter, where indicated on Standard Form 424, and outside of the envelope in which the application is sent.

Catalog of Federal Domestic Assistance Number: 16.603.

Executive Order 12372: This program is subject to the provisions of Executive Order 12372.

E.O. 12372 allows states the option of setting up a system for reviewing applications from within their states for assistance under certain Federal programs. Applicants (other than Federally-recognized Indian Tribal governments) should contact their State Single Point of Contact (SPOC), a list of which can be found at http://www.whitehouse.gov/omb/grants/spoc.html.

Christopher Innes,
Chief, Research & Information Services, National Institute of Corrections.

[FR Doc. 2011-20520 Filed 8-11-11; 8:45 am]

BILLING CODE 4410-36-P